DEPARTMENT OF COMMERCE

International Trade Administration

[A-570-010, C-570-011]

Crystalline Silicon Photovoltaic Products From the People's Republic of China: Preliminary Results of Changed Circumstances Reviews, and Consideration of Revocation of the Antidumping and Countervailing Duty Orders in Part

AGENCY: Enforcement and Compliance, International Trade Administration, Department of Commerce.

SUMMARY: On March 16, 2020, the Department of Commerce (Commerce) received a request for revocation, in part, of the antidumping duty (AD) and countervailing duty (CVD) orders on crystalline silicon photovoltaic products from the People's Republic of China (China) with respect to certain off-grid portable small panels. We preliminarily find that producers accounting for substantially all of the domestic production of the products to which the Solar Products Orders pertain lack interest in the relief provided by those orders with respect to certain off-grid portable small panels; therefore, we intend to revoke, in part, the Solar Products Orders with respect to such panels. Interested parties are invited to comment on these preliminary results.

DATES: Applicable September 2, 2020.

FOR FURTHER INFORMATION CONTACT: Thomas Hanna, AD/CVD Operations, Office IV, Enforcement and Compliance, International Trade Administration, U.S. Department of Commerce, 1401 Constitution Avenue NW, Washington, DC 20230; telephone: (202) 482-0835.

SUPPLEMENTARY INFORMATION:

Background

On February 18, 2015, Commerce published AD and CVD orders on certain crystalline silicon photovoltaic products from China.¹ On March 16, 2020, Memory Experts Inc., dba PowerTraveller (Memory Experts), an importer of the subject merchandise, requested, through changed circumstances reviews, revocation of the Solar Products Orders with respect to certain off-grid portable small panels pursuant to section 751(b)(1) of the Tariff Act of 1930, as amended (the Act) and 19 CFR 351.216(b).²

¹ See Certain Crystalline Silicon Photovoltaic Products from the People's Republic of China: Antidumping Duty Order; and Amended Final Affirmative Countervailing Duty Determination and Countervailing Duty Order, 80 FR 8592 (February 18, 2015) (Solar Products Orders).

² See Memory Experts' Letter, “Crystalline Silicon Photovoltaic Cells, Whether or Not Assembled into Modules from the People's Republic of China; Memory Experts Inc., dba PowerTraveller's Request for a Changed Circumstances Review,” dated March 16, 2020 (Memory Experts' Request).

On June 12, 2020, we published the Initiation Notice for these changed circumstances reviews in the Federal Register.³ We invited interested parties to submit comments concerning industry support for the revocation, in part, of the Solar Products Orders, as well as comments and/or factual information regarding these changed circumstances reviews. We received no comments.

³ See Crystalline Silicon Photovoltaic Products from the People's Republic of China: Notice of Initiation of Changed Circumstances Reviews, and Consideration of Revocation of the Antidumping and Countervailing Duty Orders in Part, 85 FR 35902 (June 12, 2020) (Initiation Notice).

Scope of the Solar Products Orders

The merchandise covered by these orders is modules, laminates and/or panels consisting of crystalline silicon photovoltaic cells, whether or not partially or fully assembled into other products, including building integrated materials. For purposes of these orders, subject merchandise includes modules, laminates and/or panels assembled in China consisting of crystalline silicon photovoltaic cells produced in a customs territory other than China.

Subject merchandise includes modules, laminates and/or panels assembled in China consisting of crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Excluded from the scope of these orders are thin film photovoltaic products produced from amorphous silicon (a-Si), cadmium telluride (CdTe), or copper indium gallium selenide (CIGS). Also excluded from the scope of these orders are modules, laminates and/or panels assembled in China, consisting of crystalline silicon photovoltaic cells, not exceeding 10,000 mm² in surface area, that are permanently integrated into a consumer good whose function is other than power generation and that consumes the electricity generated by the integrated crystalline silicon photovoltaic cells. Where more than one module, laminate and/or panel is permanently integrated into a consumer good, the surface area for purposes of this exclusion shall be the total combined surface area of all modules, laminates and/or panels that are integrated into the consumer good.

Further, also excluded from the scope of these orders are any products covered by the existing antidumping and countervailing duty orders on crystalline silicon photovoltaic cells, whether or not assembled into modules, laminates and/or panels, from China.⁴

⁴ See Crystalline Silicon Photovoltaic Cells, Whether or Not Assembled Into Modules, from the People's Republic of China: Amended Final Determination of Sales at Less Than Fair Value, and Antidumping Duty Order, 77 FR 73018 (December 7, 2012); Crystalline Silicon Photovoltaic Cells, Whether or Not Assembled Into Modules, from the People's Republic of China: Countervailing Duty Order, 77 FR 73017 (December 7, 2012).

Additionally, excluded from the scope of these orders are solar panels that are: (1) Less than 300,000 mm² in surface area; (2) less than 27.1 watts in power; (3) coated across their entire surface with a polyurethane doming resin; and (4) joined to a battery charging and maintaining unit (which is an acrylonitrile butadiene styrene (ABS) box that incorporates a light emitting diode (LED)) by coated wires that include a connector to permit the incorporation of an extension cable. The battery charging and maintaining unit utilizes high-frequency triangular pulse waveforms designed to maintain and extend the life of batteries through the reduction of lead sulfate crystals. The above-described battery charging and maintaining unit is currently available under the registered trademark “SolarPulse.”

Merchandise covered by these orders is currently classified in the Harmonized Tariff Schedule of the United States (HTSUS) under subheadings 8501.61.0000, 8507.20.8030, 8507.20.8040, 8507.20.8060, 8507.20.8090, 8541.40.6015, 8541.40.6020, 8541.40.6030, 8541.40.6035 and 8501.31.8000. These HTSUS subheadings are provided for convenience and customs purposes; the written description of the scope of these orders is dispositive.⁵

⁵ See Solar Products Orders.

Preliminary Results of Changed Circumstances Reviews and Intent To Revoke the Solar Products Orders, in Part

Section 782(h)(2) of the Act gives Commerce the authority to revoke an order if producers accounting for substantially all of the production of the domestic like product have expressed a lack of interest in the order. Section 351.222(g) of Commerce's regulations provides that Commerce will conduct a changed circumstances review under 19 CFR 351.216, and may revoke an order (in whole or in part), if it concludes that: (i) Producers accounting for substantially all of the production of the domestic like product to which the order pertains have expressed a lack of interest in the relief provided by the order, in whole or in part; or (ii) if other changed circumstances sufficient to warrant revocation exist. Thus, both the Act and Commerce's regulations require that “substantially all” domestic producers express a lack of interest in the order for Commerce to revoke the order, in whole or in part.⁶ Commerce has interpreted “substantially all” to represent producers accounting for at least 85 percent of U.S. production of the domestic like product.⁷

⁶ See Section 782(h) of the Act and 19 CFR 351.222(g).

⁷ See Honey from Argentina; Antidumping and Countervailing Duty Changed Circumstances Reviews; Preliminary Intent to Revoke Antidumping and Countervailing Duty Orders, 77 FR 67790, 67791 (November 14, 2012)(Honey Preliminary CCR Results), unchanged in Honey from Argentina; Final Results of Antidumping and Countervailing Duty Changed Circumstances Reviews; Revocation of Antidumping and Countervailing Duty Orders, 77 FR 77029 (December 31, 2012).

Hanwha Q CELL USA, Inc. (Q CELL USA) and SunPower Manufacturing Oregon, LLC (SPMOR) submitted statements of lack of interest in the continued application of the Solar Products Orders with respect to certain off-grid portable small panels described below. However, these statements did not confirm that Q CELL USA and SPMOR account for substantially all domestic production of certain crystalline silicon photovoltaic products.⁸ Thus, Commerce did not determine at the time it initiated this changed circumstances review whether producers accounting for substantially all of the production of the domestic like product lacked interest. In the Initiation Notice, Commerce invited interested parties to comment on the issue of domestic industry support for a partial revocation of the Solar Products Orders with respect to such panels. Commerce received no comments.

⁸ See Initiation Notice.

In light of Memory Experts' Request, Q CELL USA and SPMOR's statement of lack of interest, and the absence of any interested party comments received during the comment period, we preliminarily conclude that producers accounting for substantially all of the production of the domestic like product to which the Solar Products Orders pertain lack interest in the relief provided by the Solar Products Orders with respect to certain off-grid portable small panels that are the subject of Memory Experts' Request. Thus, we determine that changed circumstances warrant revocation of the Solar Products Orders, in part, with respect to such panels.

Accordingly, we are notifying the public of our intent to revoke the Solar Products Orders, in part, with respect to the following off-grid portable small panels:

(1) Off-grid crystalline silicon photovoltaic panels without a glass cover with the following characteristics:

(a) Total power output of 500 watts or less per panel;

(b) Maximum surface area of 8,000 cm² per panel;

(c) Unit does not include a built-in inverter;

(d) Unit has visible parallel grid collector metallic wire lines every 2-40 millimeters across each solar panel (depending on model);

(e) Solar cells are encased in laminated frosted PET material without stitching; ⁹

⁹ Although the polyester material has stitching on the perimeter of the unit, the cells are not stitched into the PET material.

(f) The panel is encased in polyester fabric with visible stitching which includes a Velcro-type storage pocket and unit closure, or encased within a Neoprene clamshell (depending on model);

(g) Includes LED indicator.

We will consider comments from interested parties on these preliminary results before issuing the final results of this review.¹⁰

¹⁰ See, e.g., Honey Preliminary CCR Results, 77 FR 67790, 67791 (November 14, 2012); Aluminum Extrusions from the People's Republic of China: Preliminary Results of Changed Circumstances Reviews, and Intent to Revoke Antidumping and Countervailing Duty Orders in Part, 78 FR 66895 (November 7, 2013); and 19 CFR 351.222(g)(3)(v).

Public Comment

Interested parties are invited to comment on these preliminary results in accordance with 19 CFR 351.309(c)(1)(ii). Written comments may be submitted no later than 14 days after the date of publication of these preliminary results. Rebuttals to written comments, limited to issues raised in such comments, may be filed no later than seven days after the due date for comments. All submissions must be filed electronically using Enforcement and Compliance's AD and CVD Centralized Electronic Service System (ACCESS).¹¹ An electronically filed document must be received successfully in its entirety by ACCESS, by 5 p.m. Eastern Time on the due dates set forth in this notice. Note that Commerce has temporarily modified certain of its requirements for serving documents containing business proprietary information, until further notice.¹²

¹¹ See generally 19 CFR 351.303.

¹² See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Commerce will issue the final results of these changed circumstances reviews, which will include its analysis of any written comments, no later than 270 days after the date on which this review was initiated.

If, in the final results of these reviews, Commerce continues to determine that changed circumstances warrant the revocation of the Solar Products Orders, in part, we will instruct U.S. Customs and Border Protection to liquidate without regard to antidumping or countervailing duties, and to refund any estimated antidumping or countervailing duties on all unliquidated entries of the merchandise covered by the revocation that are not covered by the final results of an administrative review or automatic liquidation.

The current requirement for cash deposits of estimated antidumping and countervailing duties on all entries of subject merchandise will continue unless until they are modified pursuant to the final results of these changed circumstances reviews.

These preliminary results of reviews and notice are in accordance with sections 751(b) and 777(i) of the Act and 19 CFR 351.216, 19 CFR 351.221(c)(3), and 19 CFR 351.222.

Dated: August 27, 2020.
Jeffrey I. Kessler,
Assistant Secretary for Enforcement and Compliance.

[FR Doc. 2020-19393 Filed 9-1-20; 8:45 am]

BILLING CODE 3510-DS-P